DEPARTMENT OF HOMELAND SECURITY

Coast Guard

[USCG-2005-22541]

Merchant Mariner Credentials: Temporary Procedures; Hurricane Katrina

AGENCY: Coast Guard, DHS.

ACTION: Notice of Fee Waiver.

SUMMARY: On August 29, 2005, Hurricane Katrina devastated the coastlines of Louisiana, Mississippi, and Alabama. The Regional Examination Center (REC) at New Orleans, which serves 14% of mariners nation-wide and reflects about 29,000 mariners in those three states, was completely flooded, destroying vital records and equipment, and rendering the facility temporarily inoperable. Since mariners in the area may also have lost their credentials in the storm and subsequent flooding, the Coast Guard is hereby implementing temporary measures to relieve some hardship on mariners in the Gulf coast area who need replacement credentials.

DATES: This Notice is effective October 4, 2005.

FOR FURTHER INFORMATION CONTACT: If you have questions on this notice, call Mr. Donald J. Kerlin, Deputy Director, Coast Guard National Maritime Center (NMC), (202) 493-1006.

SUPPLEMENTARY INFORMATION: Mariners whose homes of record are in the states of Louisiana, Mississippi or Alabama as confirmed by the Coast Guard's merchant mariner licensing and documentation system (MMLD), and have lost their merchant mariner's document (MMD), merchant mariner's license, or certificate of registry (COR) (collectively referred to as “credentials”) may apply at any REC to receive a duplicate credential that will bear the same expiration date and qualifications as the original credential that was lost. Until February 28, 2006, the fee usually charged for the issuance of duplicate credentials, will be waived. Additionally, any mariner who applied for a duplicate credential between August 29, 2005 and the publication of this Notice, and paid any fee may apply for a refund at the issuing REC. This waiver only applies to duplicate credentials that replace credentials held before the hurricane. It does not apply to routine renewals or transactions that enhance the mariner's authority (raises of grade). Also, all other provisions and requirements in Title 46, Code of Federal Regulations (46 CFR) 10.219 and 12.02-23 still apply.

Since REC New Orleans is expected to remain closed for approximately six months or more, additional resources are being allocated to RECs Memphis, Houston, Miami and Charleston. Mariners may also seek help at any of the other 12 RECs around the country, a list of which appears at 46 CFR 10.105 and 12.01-7. You may also call Mr. Kerlin for assistance at the number provided in FOR FURTHER INFORMATION CONTACT.

Due to the time it takes to process renewal applications, mariners who visit an REC to obtain a duplicate credential that is within one year of expiration are strongly encouraged to apply for a renewal or upgraded credential at the same time that they receive their duplicate credential.

Authority: 46 U.S.C. 2103, 2110, 7101, 7302, 7501, 7502, and Department of Homeland Security Delegation No. 0170.1.

Dated: September 30, 2005.
T.H. Gilmour,
Rear Admiral, U.S. Coast Guard, Assistant Commandant for Marine Safety, Security and Environmental Protection.

[FR Doc. 05-19988 Filed 9-30-05; 2:23 pm]

BILLING CODE 4910-15-P